ENVIRONMENTAL PROTECTION AGENCY

40 CFR Part 300

[FRL-6963-3]

National Oil and Hazardous Substances Pollution Contingency Plan; National Priorities List

AGENCY: Environmental Protection Agency.

ACTION: Notice of intent to delete Schuylkill Metals Corporation Site from the National Priorities List: request for comments.

SUMMARY: The Environmental Protection Agency (EPA) Region 4 announces its intent to delete the Schuylkill Metals Corporation Site from the National Priorities List (NPL) and requests public comment on this proposed action. The NPL constitutes appendix B to 40 CFR part 300 which is the National Oil and Hazardous Substances Pollution Contingency Plan (NCP), which EPA promulgated pursuant to section 105 of the Comprehensive Environmental Response, Compensation, and Liability Act (CERCLA) of 1980, as amended. EPA and the State of Florida Department of Environmental Protection (FDEP) have determined that the Site poses no significant threat to public health or the environment and therefore, further response measures pursuant to CERCLA are not appropriate.

DATES: Comments concerning this Site may be submitted on or before: July 12, 2001.

ADDRESSES: Comments may be mailed to: Richard D. Green, Director, Waste Management Division, U.S. Environmental Protection Agency, Atlanta Federal Center, 61 Forsyth Street SW., Atlanta, Georgia 30303-8960.

Comprehensive information on this Site is available through the Region 4 public docket, which is available for viewing at the Schuylkill Metals Corporation Site information repositories at two locations. Locations, contacts, phone numbers and viewing hours are:

U.S. EPA Record Center, attn: Ms. Debbie Jourdan, Atlanta Federal Center, 61 Forsyth Street, SW., Atlanta, Georgia 30303-8960, Phone: (404) 562-8862, Hours: 8 a.m. to 4 p.m., Monday through Friday By Appointment Only

Bruton Memorial Library, 302 McLendon Street, Plant City, Florida 33566-3299, Phone: (813) 757-9215, Hours: 9 a.m. to 9 p.m., Monday through Thursday 9 a.m. to 6 p.m., Friday, 10 a.m. to 6 p.m., Saturday, closed, Sunday

FOR FURTHER INFORMATION CONTACT: Galo Jackson, U.S. EPA Region 4, Mail Code: WD-SSMB, Atlanta Federal Center, 61 Forsyth Street, SW., Atlanta, Georgia 30303-8960, (404) 562-8937.

SUPPLEMENTARY INFORMATION:

Table of Contents

I. Introduction

II. NPL Deletion Criteria

III. Deletion Procedures

IV. Basis for Intended Site Deletion

I. Introduction

The EPA Region 4 announces its intent to delete the Schuylkill Metals Corporation Site, Plant City, Florida, from the NPL, which constitutes appendix B of the NCP, 40 CFR part 300, and requests comments on this deletion. EPA identifies sites on the NPL that appear to present a significant risk to public health, welfare, or the environment. Sites on the NPL may be the subject of remedial actions financed by the Hazardous Substance Superfund Trust Fund (Fund). Pursuant to § 300.425(e)(3) of the NCP, any site deleted from the NPL remains eligible for Fund-financed remedial actions if conditions at the site warrant such action.

EPA proposes to delete the Schuylkill Metals Corporation Site, located at 402 South Woodrow Wilson Street in Plant City, Hillsborough County, Florida from the NPL.

EPA will accept comments concerning this Site for thirty days after publication of this document in the Federal Register.

Section II of this document explains the criteria for deleting sites from the NPL. Section III discusses procedures that EPA is using for this action. Section IV discusses how this Site meets the deletion criteria.

II. NPL Deletion Criteria

The NCP establishes the criteria that the Agency uses to delete sites from the NPL. In accordance with 40 CFR 300.425(e), sites may be deleted from, or re-categorized on, the NPL where no further response is appropriate. In making this determination, EPA shall consider, in consultation with the State, whether any of the following criteria have been met:

(i) Responsible or other parties have implemented all appropriate response actions required;

(ii) All appropriate Fund-financed responses under CERCLA have been implemented and no further action by responsible parties is appropriate; or

(iii) The remedial investigation has shown that the release poses no significant threat to public health or the environment and, therefore, taking of remedial measures is not appropriate.

CERCLA section 121(c), 42 U.S.C. 9621(c), provides in pertinent part that:

If the President selects a remedial action that results in any hazardous substances, pollutants, or contaminants remaining at the Site, the President shall review such remedial action no less often than each five years after the initiation of such remedial action to assure that human health and the environment are being protected by the remedial action being implemented. * * *

EPA policy interprets this provision of CERCLA to apply to those sites where treated, in this case solidified, waste remains on-site. On that basis, for reasons set forth below, the statutory requirement has been satisfied at this Site, and five year reviews and operation and maintenance activities will be required. In the event new information is discovered which indicates a need for further action, EPA may initiate appropriate remedial actions. In addition, whenever there is a significant release from a site previously deleted from the NPL, that site may be restored to the NPL without application of the Hazardous Ranking System. Accordingly, the Site is qualified for deletion from the NPL.

III. Deletion Procedures

EPA will accept and evaluate public comments before making a final decision on deletion. The following procedures were used for the intended deletion of the Site:

1. FDEP has concurred with the deletion decision;

2. Concurrently with this Notice of Intent, a notice has been published in local newspapers and has been distributed to appropriate federal, state and local officials and other interested parties announcing a 30-day public comment period on the proposed deletion from the NPL; and

3. The Region has made all relevant documents available at the information repositories.

The Region will respond to significant comments, if any, submitted during the comment period.

Deletion of the Site from the NPL does not itself create, alter, or revoke any individual rights or obligations. The NPL is designed primarily for informational purposes to assist Agency management.

A deletion occurs when the Regional Administrator places a final notice in the Federal Register. Generally, the NPL will reflect any deletions in the final update following the Notice. Public notices and copies of the Responsiveness Summary, if any, will be made available to local residents by the Regional office.

IV. Basis for Intended Site Deletion

The following site summary provides the Agency's rationale for the intention to delete this Site from the NPL.

The Schuylkill Metals Corporation Site is located at 802 South Woodrow Wilson Street, Plant City, Hillsborough County, Florida. The Site is 17.4 acres in size and is currently occupied by the solidified monolith, two wetlands, the former wastewater holding pond and adjacent fields.

The Schuylkill Metals Corporation Site was in operation between 1972 and 1986 as a battery recycling facility. The facility received spent automobile and golf cart batteries. The tops of the spent batteries were sawed off, contents emptied on to the ground and lead plates shipped from the Site by rail to be smelted for reuse. Contaminated battery casings were crushed and buried on Site, or used as road or building material. Prior to 1981, acidic wash down waste waters were stored in the 2.2 acre unlined holding pond. Initially, lime was used for pH adjustment of the water stored in the holding pond. Subsequent to this, ammonia was used. In 1981, after upgrading of the wastewater system, discharge to the holding pond ceased. At this time, wastewater was treated with sodium hydroxide, prior to discharge under permit to the city's wastewater treatment plant.

In 1981, EPA conducted its initial investigation of the Schuylkill Metals Corporation Site. The results of this study indicated that groundwater from the surficial aquifer contained elevated levels of cadmium, chromium, lead and ammonia in the vicinity of the holding pond and the battery processing area.

The Site was placed on the NPL and a remedial investigation (RI) was performed at the facility during 1987. As a result of sampling of surface and subsurface soil, the former battery processing area was found to be the primary source of contamination. In April 1988, an addendum RI addressed specific areas of concern that were not included in the initial study. Later that year, a draft feasibility study (FS) was completed which included proposed cleanup levels for soil and groundwater, evaluated the remedial alternatives for the Site and specified the volume of soil requiring treatment. A treatability study work plan was submitted in January 1989, which evaluated various chemical formulas for a solidification/stabilization soil remedy.

In July 1989, a FS addendum was completed, in an effort to determine appropriate cleanup levels for the perimeter ditch sediment and marsh sediment. The addendum allowed EPA to address potential remedial actions to mitigate the environmental threat to the marshes posed by the release of contaminants from the Schuylkill Metals Corporation Site. Late that year, the Environmental Services Division (ESD) of EPA conducted two studies on the east marsh at the Site: a wetland classification assessment and a sampling investigation. The wetland was classified, delineated, and analyzed for its functional value. Samples of the surface water and sediment were collected and analyzed. These reports identified the need to perform biological testing on marsh samples. Later that year, ESD collected surface water and sediment samples to determine the toxicity of the metal contaminants to terrestrial and aquatic organisms, indigenous plant and animal bioaccumulation, as well as the fate of these metals in the wetland system. The Wetland Impact Study was finalized in 1990 and presented the chemical and biological data, as well as the effect of potential remedial activities on the marsh.

A Draft Final Addendum to the Feasibility Study Report, concluded in July of 1990, evaluated the technologies for remediation and the remedial alternatives appropriate for the wetlands. It compared the feasibility of four alternatives in relation to the nine evaluation criteria.

In September 1990, EPA issued a Record of Decision (ROD), requiring the solidification/stabilization of the then-estimated 38,000 cubic yards (approximately 53,200 tons) of contaminated soil and sediment, having concentrations above 500 milligrams per kilograms (mg/kg); groundwater pumping-and-treatment; sequestration of lead in the wetland's sediment by changing the hydroperiod of the affected wetlands; and mitigation for the damage caused to the wetlands, as a result of the operation of a battery recycling facility adjacent to wetlands.

As a result of a hydrologic study conducted after the issuance of the ROD, the selected remedy for the wetland was modified to removal and solidification/stabilization of lead-contaminated sediment, above the 100 mg/kg clean-up goal. This modification was documented in a 1993 Explanation of Significant Differences.

The responsible party entered into an agreement with EPA, in which they agreed to perform the work outlined in the ROD. This was memorialized in a March 1991 Consent Decree. To implement the remedy, a remedial design and remedial action (RD/RA) work plans were submitted to EPA. The last of these plans was approved in June 1993.

In December 1993 two slurry walls were installed in order to facilitate the management of the Site water. They allowed the volume of groundwater removed from the soil excavation area to be minimized and confined primarily to contaminated water in the immediate vicinity of the soil contamination, as well as rainfall which occurred during soil solidification/stabilization activities.

During the months of April and May 1994, approximately 8,100 cubic yards of lead-contaminated marsh sediments were removed from the east and west marshes. All sediment having lead concentrations greater than 125 mg/kg were excavated. The marsh sediment from grids with lead concentrations between 125 and 500 mg/kg stockpiled in a clean upland area. Sediment with lead concentration greater than 500 mg/kg were stockpiled within the north slurry wall areas for subsequent treatment.

In June 1994, construction of the groundwater pre-treatment system began. This system consisted of three major process operations: a metals removal system, an air stripper/ammonia scrubber and a chlorination system. For the first three months of the pre-treatment system's operation, the plant treated the existing pond water to provide room for groundwater storage. The treated water was discharged to the Plant City publicly owned treatment works (POTW). While the contaminated soil was being stabilized, groundwater from the excavation dewatering operation was treated prior to discharge to the POTW. An estimated 15-to-18 million gallons of groundwater was treated between the months of July 1994 and December 1996.

In December 1994, treatment of soil started and continued until May 1997. During this period approximately 258,000 tons (184,000 cubic yards) of soil and sediment were treated. This volume of lead-contaminated soil and sediment includes excavation and treatment of approximately 10,000 cubic yards of sediments removed from the bottom of the former holding pond. Excavation of the former holding pond required the installation of sheet piling to segregate the pond into three sections.

Wetland mitigation activities started in May 1995 and ended in August 1997. Wetland mitigation activities involved the creation of additional wetland acreage from upland or pond areas on-site to mitigate for the permanently inundated or contaminated areas and temporary loss of function. This upland portion included mitigation at a ratio of 2:1 for the permanently inundated areas in the East Marsh plus an additional 1:1 compensation for natural resource damage agreed to in negotiations with the FDEP.

The Site's post-soil treatment groundwater was monitored on four occasions, in order to determine whether the groundwater treatment component of the ROD would need to be implemented. These results indicated that further groundwater recovery and treatment would not be necessary.

Due to the treatment of contaminated soil and sediment, hazardous substances have been immobilized, allowing for unlimited use of part of the Site. Excluded from unlimited use are the areas of the treated soil and the remediated wetlands, which are the subject of a conservation easement. In order to confirm that the Site is protective of public health and the environment, limited maintenance of the solidified monolith will be required, as well as Five Year Reviews.

EPA, with concurrence of FDEP, has determined that all appropriate actions at the Schuylkill Metals Corporation Site have been completed, and no further remedial action is necessary. Therefore, EPA is proposing deletion of the Site from the NPL.

Dated: March 26, 2001.
A. Stanley Meiburg,
Acting Regional Administrator, Region 4.

[FR Doc. 01-14470 Filed 6-11-01; 8:45 am]

BILLING CODE 6560-50-U